DEPARTMENT OF TRANSPORTATION

Federal Highway Administration

Notice of Statute of Limitations on Claims; Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans and other Federal agencies, that are final within the meaning of 23 U.S.C. 139(l)(1). The actions relate to a proposed Physical Suicide Deterrent System on the Golden Gate Bridge on US Route 101 at the San Francisco/Marin County line, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 17, 2010. If the Federal law that authorizes judicial review of a claim provides a time period of less than 180 days for filing such claim, then that shorter time period still applies.

FOR FURTHER INFORMATION CONTACT: Haiyan Zhang, Senior Environmental Planner, California Department of Transportation (Caltrans), 111 Grand Avenue, Oakland, CA 94612; Weekdays 8 a.m. to 5 p.m. (Pacific time); telephone: (510) 286-5235 (please note office closed first through third Fridays due to State furloughs); e-mail: haiyan_zhang@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The Golden Gate Bridge Physical Suicide Deterrent System on US Route 101 at the San Francisco/Marin County line. The purpose of the project is to consider a physical suicide deterrent system on the Golden Gate Bridge (Bridge) that reduces the number of injuries and deaths associated with individuals jumping off the Bridge. The specific need for the project stems from the fact that the 4-foot height of the outside handrail does not sufficiently deter individuals, who are not using the sidewalk for its intended purposes, from climbing over the outside handrail. There is no other physical barrier beyond the outside handrail preventing an individual from jumping once the outside handrail is scaled.

The actions by the Federal agencies, and the laws under which such actions were taken, are described in the Environmental Assessment (EA)/Finding of No Significant Effect (FONSI) for the project, approved on January 19th, 2010. The EA/FONSI and other documents are available by contacting Caltrans at the addresses provided above. The EA/FONSI and other documents can also be viewed and downloaded from the project Web site at: http://www.ggbsuicidebarrier.org.

This notice applies to all Federal agency decisions as of the issuance date of this notice and all laws under which such actions were taken, including but not limited to:

1. National Environmental Policy Act of 1969 (NEPA) [42 U.S.C. 4321-4351];

2. Federal Aid Highway Act [23 U.S.C. 109 & 128];

3. Section 4(f) of the Department of Transportation Act of 1966 [23 CFR, 774];

4. Air Quality Conformity Determination [40 CFR 93.126];

5. Federal Endangered Species Act of 1973 [16 U.S.C. 1531-1544]; and

6. National Historic Preservation Act of 1966 [16 U.S.C. 470].

(Catalog of Federal Domestic Assistance Program Number 20.205, Highway Planning and Construction. The regulations implementing Executive Order 12372 regarding intergovernmental consultation on Federal programs and activities apply to this program.)

Authority: 23 U.S.C. 139(l)(1).

Issued on: February 10, 2010.
William Forrester, Jr.,
Director of Structures, Federal Highway Administration, Sacramento, California.

[FR Doc. 2010-3095 Filed 2-17-10; 8:45 am]

BILLING CODE 4910-RY-P